DEPARTMENT OF COMMERCE

International Trade Administration

[A-122-857]

Certain Softwood Lumber Products From Canada: Final Results of Antidumping Duty Administrative Review; 2017-2018; Correction

AGENCY: Enforcement and Compliance, International Trade Administration, Department of Commerce.

ACTION: Notice; correction.

SUMMARY: The U.S. Department of Commerce (Commerce) published its notice in the Federal Register of November 30, 2020, in which Commerce announced the final results of the 2017-2018 administrative review of the antidumping duty (AD) order on certain softwood lumber products from Canada. In preparing the liquidation instructions, Commerce discovered that this notice inadvertently listed incorrect names for certain companies under review.

FOR FURTHER INFORMATION CONTACT: Joshua Jacobson, AD/CVD Operations, Office IV, Enforcement and Compliance, International Trade Administration, U.S. Department of Commerce, 1401 Constitution Avenue NW, Washington, DC 20230; telephone: (202) 482-0266.

SUPPLEMENTARY INFORMATION:

Background

On November 30, 2020, Commerce published in the Federal Register a notice entitled, “Certain Softwood Lumber Products from Canada: Final Results of Antidumping Duty Administrative Review; 2017-2018.” ¹ In this notice, we inadvertently listed incorrect names for certain companies under review.

¹ See Certain Softwood Lumber Products from Canada: Final Results of Antidumping Duty Administrative Review; 2017-2018, 85 FR 76519 (November 30, 2020).

Correction

In the Federal Register of November 30, 2020, in FR Doc 2020-26333, on page 76520, in the section titiled “Final Results of Review,” correct the following names from “Resolute Growth Canada Inc./Forest Products Mauricie LP, Société en commandite Scierie Opitciwan/Resolute-LP Engineered Wood Larouche Inc./Resolute-LP Engineered Wood St-Prime Limited Partnership/Resolute FP Canada Inc” to “Resolute FP Canada Inc.”; and “West Fraser Mills Ltd., Blue Ridge Lumber Inc./Manning Forest Products Ltd./and Sundre Forest Products Inc” to “West Fraser Mills Ltd. and West Fraser Timber Co. Ltd.”

In the Federal Register of November 30, 2020, in FR Doc 2020-26333, on page 76521, in the second column, correct the following company names from “Anglo American Cedar Products Ltd.; Anglo-American Cedar Products Ltd.” to “Anglo-American Cedar Products Ltd.”; “Benoit & Dionne Produits Forestiers Ltee (aka Benoit & Dionne Forest Products Ltd.)” to “Benoît & Dionne Produits Forestiers Lte”; and “Bois Aise de Montreal Inc.” to “Bois Ais de Montral Inc.”. Additionally, in the third column, correct “Comox Valley Shakes Ltd.” to “Comox Valley Shakes Ltd./Comox Valley Shakes (2019) Ltd.”; and “CWP—Montreal inc.” to “CWP—Montral Inc.”

In the Federal Register of November 30, 2020, in FR Doc 2020-26333, on page 76522, in the first column, correct the following company names from “Les Bois Traites M.G. Inc.” to “Les Bois Traits M.G. Inc.”; “Les Produits Forestiers D&G Ltee” to “Les Produits Forestiers D&G Lte”; “North American Forest Products Ltd. (located in Saint-Quentin, New Brunswick)”; “North American Forest Products, Ltd. (located in Abbotsford, British Columbia)” to “North American Forest Products Ltd.”; and “Olympic Industries ULC/Olympic Industries ULC-Reman/Olympic Industries ULC-Reman Code/Olympic Industries Inc./Olympic Industries Inc-Reman Codes” to “Olympic Industries Inc./Olympic Industries ULC.” In addition, in the second column, correct “Specialiste du Bardeau de Cedre Inc” to “Specialiste du Bardeau de Cedre Inc. (SBC)”; “Tolko Industries Ltd./Tolko Marketing and Sales Ltd./Gilbert Smith Forest Products Ltd.” to “Tolko Industries Ltd., Tolko Marketing & Services, Ltd., and Gilbert Smith Forest Products Ltd.”; and “Woodstock Forest Products” to “Woodstock Forest Products/Woodstock Forest Products Inc.”

Notification to Interested Parties

This notice is issued and published in accordance with sections 751(a)(1) and 777(i)(1) of the Tariff Act of 1930, as amended, and 19 CFR 351.213(h).

Dated: December 12, 2025.
Christopher Abbott,
Deputy Assistant Secretary for Policy and Negotiations, performing the non-exclusive functions and duties of the Assistant Secretary for Enforcement and Compliance.

[FR Doc. 2025-23495 Filed 12-19-25; 8:45 am]

BILLING CODE 3510-DS-P